DEPARTMENT OF ENERGY

Workers' Compensation Assistance Advisory Committee

AGENCY: Department of Energy.

ACTION: Notice of Intent to Establish the Workers' Compensation Assistance Advisory Committee.

Pursuant to Section 9(a)(2) of the Federal Advisory Committee Act (Pub. L. 92-463), and in accordance with title 41 of the Code of Federal Regulations, section 102-3.65, this is notice of intent to establish the Workers' Compensation Assistance Advisory Committee. This intent to establish follows consultation with the Committee Management Secretariat of the General Services Administration, pursuant to 41 CFR Subpart 102-3.60.

The purpose of the Committee is to provide the Secretary of Energy and the Assistant Secretary for Environment, Safety and Health with advice, information, and recommendations on the operation of the Office of Worker Advocacy, focusing on its case management and physician panel processes. The Committee will provide:

a. Advice on worker compensation policies and procedures as they relate to Subtitle D of the Energy Employees Occupational Illness Compensation Program Act of 2000.

b. Periodic reviews of Worker Advocacy Program operations and milestones.

c. Advice on improving the processing of requests for assistance in filing for state workers' compensation.

d. Advice on improving the operation and productivity of the physician panels.

Committee members will be chosen to ensure an appropriately balanced membership to bring into account a diversity of viewpoints, including state and Federal workers' compensation specialists, workers, union representatives, occupational physicians, DOE contractors, the insurance industry, and the public at large who may significantly contribute to the deliberations of the Committee. All meetings of this Committee will be published ahead of time in the Federal Register.

Additionally, the establishment of the Workers' Compensation Assistance Advisory Committee is essential to the conduct of Department of Energy business, and is in the public interest. Further information regarding this committee may be obtained from Tom Rollow, Director, Office of Worker Advocacy, U.S. Department of Energy, Washington, DC 20585, phone (202) 586-7449.

Issued in Washington, DC, on January 5, 2004.
James N. Solit,
Advisory Committee Management Officer.

[FR Doc. 04-442 Filed 1-8-04; 8:45 am]

BILLING CODE 6450-01-P